DEPARTMENT OF THE INTERIOR

National Park Service

30-Day Notice of Intention To Request Clearance of Collection of Information; Opportunity for Public Comment

AGENCY: Department of the Interior; National Park Service.

ACTION: Notice and request for comments.

SUMMARY: Under the provisions of the Paperwork Reduction Act of 1995 (Pub. L. 104-13, 44 U.S.C., Chapter 3507) and 5 CFR Part 1320, Reporting and Record Keeping Requirements, the National Park Service (NPS) invites public comments on an extension of a currently approved information collection (OMB #1024-0026).

The OMB has up to 60 days to approve or disapprove the requested information collection, but may respond after 30 days. Therefore, to ensure maximum consideration, OMB should receive public comments by the date specified in the DATES section.

The National Park Service published a 60-day Federal Register notice to solicit public comments on this information collection on November 4, 2009, volume 74, pages 57188-57189. The comment period closed on January 4, 2010. No comments were received on this notice.

DATES: Public comments on the proposed Information Collection Request (ICR) must be received by April 23, 2010.

ADDRESSES: You may submit comments directly to the Desk Officer for the Department of the Interior, (OMB #1024-0026) Office of Information and Regulatory Affairs, OMB by fax at 202/395-5806, or by electronic mail at OIRA_DOCKET@omb.eop.gov. Please also send a copy of your comments to Ms. Lee Dickinson, Special Park Uses Program Manager, National Park Service, 1849 C Street, NW., (2465), Washington, DC 20240, or electronically to lee_dickinson@nps.gov.

FOR FURTHER INFORMATION CONTACT: Lee Dickinson, phone: 202-513-7092, fax: 202-371-1710, or at the address above. You are entitled to a copy of the entire ICR package free-of-charge.

SUPPLEMENTARY INFORMATION:

OMB Control Number: 1024-0026.

Title: Special Park Use Applications (Portions of 36 CFR 1-7, 13, 20, 34).

Form: 10-930, 10-931, 10-932.

Expiration Date of Approval: March 31, 2010.

Type of Request: Extension of a currently approved information collection.

Affected Public: Individuals; businesses; not-for-profit organizations; and State, local, and tribal governments.

Frequency of Response: On occasion.

Obligation to Respond: Required to obtain or retain a benefit.

Description of Need: The National Park Service's (NPS) legislative mandate is to preserve America's natural wonders unimpaired for future generations, while also making them available for the enjoyment of the visitor (16 U.S.C. 1). Various regulations found at 36 CFR parts 1-7 and 43 CFR part 5 require permits for various activities on park lands. The National Park Service is requesting approval of three forms (Forms 10-930, 10-931, and 10-932) used to apply for special use permits for activities on park lands. Proposed activities may include, but are not limited to, special events, First Amendment activities, commercial filming, grazing, and agricultural use. Park managers use the information to determine if the requested use is consistent with the NPS legal authorities, regulations and policy and will not cause unacceptable impacts to park resources and values. The following chart provides the number of respondents, number of annual responses, average completion time, and total annual burden hours by activity.

Actvity | No. of respondents | No. annual responses | Average completion time per hour | Total annual burden hours
10-930—Special Use Permit Application | 15,200 | 15,200 | 0.75 | 11,401
10-931—Commercial Filming/Still Photography, short form | 2,000 | 2,000 | 0.5 | 1,000
10-932—Commercial Filming/Still Photography, long form | 200 | 200 | 0.75 | 150
Totals | 17,400 | 17,400 |  | 12,551

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so. An agency may not conduct or sponsor, and a person is not required to respond to, a collection of information unless it displays a currently valid OMB control number. The OMB control number for this collection of information is 1024-0026.

Dated: March 19, 2010.
Cartina Miller,
NPS Information Collection Clearance Officer.

[FR Doc. 2010-6467 Filed 3-23-10; 8:45 am]

BILLING CODE 4312-53-P